DEPARTMENT OF DEFENSE

Department of the Army; Corps of Engineers

Intergovernmental Agreement Between the United States Department of the Army and the State of Florida Establishing Interim Targets for the Comprehensive Everglades Restoration Plan

AGENCY: Department of the Army, U.S. Army of Engineers, DoD.

ACTION: Notice of availability.

SUMMARY: The Army Corps of Engineers and the State of Florida have established interim targets for the Comprehensive Everglades Restoration Plan as required by section 385.39(c) of the Programmatic Regulations for the Comprehensive Everglades Restoration Plan. The purpose of the interim targets is to evaluate progress towards other water related needs of the region provided for in the Comprehensive Everglades Restoration Plan throughout the implementation process. The parties have chosen to memorialize the proposed interim targets in an Interim Targets Agreement.

ADDRESSES: Copies of the Interim Targets Agreement can be obtained by request from the U.S. Army Corps of Engineers, Jacksonville District, RECOVER, ATTN: Rebecca Weiss, 701 San Marco Blvd., Jacksonville, FL 32207 or by electronic mail (e-mail) to: Rebecca.j.weiss@usace.army.mil. In addition, the Intergovernmental agreement can be found at the following Web site: http://www.evergladesplan.org/pm/progr_regs_igit_agreements.aspx.

FOR FURTHER INFORMATION CONTACT: Rebecca Weiss, (904) 232-1577.

SUPPLEMENTARY INFORMATION: Section 385.39(c) of the Programmatic Regulations for the Comprehensive Everglades Restoration Plan sets forth the process for establishing the interim targets for the Comprehensive Everglades Restoration Plan. This section provides that the interim targets be developed by the Secretary of the Army and the governor of the State of Florida in consultation with the Department of the Interior, the Environmental Protection Agency, the Department of Commerce, the Miccosukee Tribe of Indians of Florida, the Seminole Tribe of Florida, the Florida Department of Environmental Protection, and other Federal, State, and local agencies, and the South Florida Ecosystem Restoration Task Force. In considering the interim targets, the Secretary of the Army and the Governor of the State of Florida are required to consider the technical recommendations of RECOVER and any modifications to those recommendations by the Corps of Engineers or the South Florida Water Management District. The Programmatic Regulations require that the Secretary of the Army afford the public an opportunity to comment on the proposed Interim Targets Agreement prior to its approval and notice in the Federal Register when the agreement has been finalized. The draft final of the Intergovernmental agreement was published in the Federal Register November 3, 2006 (71 FR 64687). Public comments on the draft intergovernmental agreements establishing interim targets were accepted through December 4, 2006. The final intergovernmental agreement establishing the interim targets was signed on April 27, 2007. An electronic copy of this document is available at: http://www.evergladesplan.org/pm/progr_regs_igit_agreements.aspx.

Brenda S. Bowen,
Army Federal Register Liaison Officer.

[FR Doc. 07-4376 Filed 9-6-07; 8:45 am]

BILLING CODE 3710-AJ-M